DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, email paperwork@hrsa.gov or call the HRSA Reports Clearance Office on (301) 443-1129.

The following request has been submitted to the Office of Management and Budget for review under the Paperwork Reduction Act of 1995:

Proposed Project: HIV Clinician Workforce Study (OMB No. 0915-NEW)

HRSA's HIV/AIDS Bureau (HAB) is planning to conduct a 24-month HIV clinician workforce study to provide HRSA and other state and federal agencies with national and state-level estimates of the number of primary care clinicians currently providing medical care to people living with HIV or AIDS in the United States, as well as projections of the magnitude of the expected shortage or surplus of HIV related primary care clinicians through 2015. The study will focus on the supply and demand of health professionals who independently manage patients with HIV/AIDS. The study will have two main components:

a. Design and implementation of a forecasting model to estimate and project the supply of and demand for HIV clinicians at the national and regional levels; and

b. Implementation of two surveys to collect the information needed to develop HIV-specific input parameters for the forecasting model, as well as to help address other research questions of the study.

HRSA is requesting OMB approval to conduct a HIV clinician survey and a HIV practice survey. The HIV clinician survey will focus on the individual provider of care and will include questions related to:

a. The clinician's age, gender, medical profession, and medical specialty;

b. The number of hours spent in direct patient care;

c. The size and characteristics of HIV patient load;

d. The primary practice characteristics and patient management strategies; and

e. The plans to increase or decrease number of hours spent in direct patient care, as well as plans for retirement.

The HIV practice survey will also focus on the practice site and will include questions related to type and size of clinic, clinic specialty and affiliation, number and acuity of patients, number and composition of staff, type of staffing model and patient management strategies, meaningful use of electronic medical record systems, as well as appointment scheduling practices and policies. HRSA plans to administer the clinician survey using both web and paper modes, with computer-assisted telephone interviewing follow-up. HRSA plans to administer the practice survey using paper mode, with computer-assisted telephone interviewing follow-up.

HRSA will use claims data, supplemented with a list of members of HIV medical societies, and attendees at the 2010 HIV clinical conference, to identify the frame of clinicians (physicians, nurse practitioners, and physician assistants) in all 50 states and the District of Columbia who provide a significant amount of medical care to patients with HIV or AIDS. By using a national probability sampling strategy, the results of the clinician survey can be used to generate national and regional estimates of HIV clinician supply.

HRSA will use quantitative and qualitative methods to document and quantify the extent of the HIV clinician workforce surplus or shortage, predict the future requirements for and supply of HIV clinicians, and identify best practice models and strategies for expanding the capacity of HIV practices and providers to meet the growing demand for care.

The ultimate goal of the study will be to develop proposed action steps that HRSA and other federal and state agencies can use to enhance the capacity of the HIV clinician workforce to achieve the targets set forth in the 2010 White House Office of HIV/AIDS Policy's National HIV/AIDS Strategy and Implementation Plan.

The annual estimate of burden of the two surveys is as follows:

Instrument | Number of respondents | Responses per respondent | Total responses | Hours per response | Total burden hours
HIV Clinician Survey | 3,500 | 1 | 3,500 | 0.33 | 1,155
HIV Practice Survey | 350 | 1 | 350 | 0.50 | 175
Total | 3,850 |  | 3,850 |  | 1,330

Written comments and recommendations concerning the proposed information collection should be sent within 30 days of this notice to the desk officer for HRSA, either by email to OIRA_submission@omb.eop.gov or by fax to (202) 395-6974. Please direct all correspondence to the “attention of the desk officer for HRSA.”

Dated: December 30, 2011.
Reva Harris,
Acting Director, Division of Policy and Information Coordination.

[FR Doc. 2012-224 Filed 1-9-12; 8:45 am]

BILLING CODE 4165-15-P